DEPARTMENT OF THE INTERIOR

Bureau of Land Management

[LLMTB01000-L14300000.ET0000; MTM 79264]

Public Land Order No. 7768; Extension of Public Land Order No. 6861; Montana

AGENCY: Bureau of Land Management, Interior.

ACTION: Public Land Order.

SUMMARY: This order extends the withdrawal created by Public Land Order No. 6861 for an additional 20-year period. This extension is necessary to continue protection of Rattler Gulch Limestone Cliffs Area of Critical Environmental Concern for its educational and scientific values.

DATES: Effective Date: June 6, 2011.

FOR FURTHER INFORMATION CONTACT: Lonna Sandau, BLM Missoula Field Office, 406-329-1093, or Sandra Ward, BLM Montana State Office, 406-896-5052.

SUPPLEMENTARY INFORMATION: The purpose for which the withdrawal was first made requires this extension to continue protection of the educational and scientific values of the Rattler Gulch Limestone Cliffs Area of Critical Environmental Concern. The withdrawal extended by this order will expire on June 5, 2031, unless, as a result of a review conducted prior to the expiration date pursuant to Section 204(f) the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6861 (56 FR 26035 (1991)), which withdrew 20 acres of public land from settlement, sale, location, or entry under the general land laws, including the United States mining laws (30 U.S.C. ch. 2), but not the mineral leasing laws, to protect the Rattler Gulch Limestone Cliffs Area of Critical Environmental Concern, is hereby extended for an additional 20-year period until June 5, 2031.

Authority: 43 CFR 2310.4.

Dated: May 10, 2011.
Wilma A. Lewis,
Assistant Secretary—Land and Minerals Management.

[FR Doc. 2011-13720 Filed 6-1-11; 8:45 am]

BILLING CODE P